DEPARTMENT OF TRANSPORTATION

Federal Highway Administration

Notice of Intent To Prepare an Environmental Impact Statement: Milwaukee, Racine and Kenosha Counties, WI, and Lake County, IL

AGENCY: Federal Highway Administration (FHWA), DOT.

ACTION: Notice of intent to prepare an Environmental Impact Statement.

SUMMARY: The FHWA is issuing this notice to advise the public that an Environmental Impact Statement (EIS) will be prepared for a proposed roadway corridor project in Milwaukee, Racine and Kenosha Counties, Wisconsin extending into Lake County, Illinois by the Wisconsin Department of Transportation (WisDOT) in Conformance with 40 CFR part 1500 and the FHWA regulations.

FOR FURTHER INFORMATION CONTACT: David Scott, FHWA, 567 D'Onofrio Drive, Suite 100, Madison, WI 53719-2844; Telephone: (608) 829-7522.

SUPPLEMENTARY INFORMATION: The Federal Highway Administration (FHWH), in cooperation with the Wisconsin Department of Transportation (WisDOT), will prepare an Environmental Impact Statement (EIS) on a proposal to improve the I-94 corridor in Milwaukee, Racine and Kenosha Counties, WI, and Lake County, IL; approximately 34 miles in length. This freeway corridor has emerging pavement needs, safety issues and design deficiencies. The proposed project may require full reconstruction and redesign of I-94 as well as potential new interchanges within the project limits of Howard Avenue on the north, 35th street on the west (I-894) and south to the I-94/USH 41 interchange in Lake County, IL. The study will also include the Mitchell Airport Spur/STH 119 from I-94 to STH 38 (Howell Avenue) on the east. The Environmental Impact Statement (EIS) will evaluate the I-94 freeway mainline for the entire corridor as well as the Mitchell Interchange (I-94 and I-894) and service interchanges in Milwaukee County. Those interchanges include Howard Avenue, 27th Street (interchange with I-894), Layton Avenue/CTH Y, Mitchell Airport Spur/STH 119, College Avenue/CTH ZZ, Rawson Avenue/CTH BB, and Ryan Road/STH 100 Interchanges.

The service interchanges with I-94 in Racine and Kenosha Counties were previously evaluated in a 1996 Environmental Assessment (EA); FHWA approve the EA with a Finding of No Significant Impact (FONSI) on December 18, 1996. Those interchanges are: STH 165, CTH C, STH 50, STH 158, STH 142, and CTH E in Kenosha County; CTH KR at the Kenosha-Racine County line; and STH 11, STH 20, CTH K, CTH G, 7 Mile Road, and 27th Street/STH 241 in Racine County. The 1996 EA/FONSI will be reevaluated, in a separate document from the EIS, to reflect any changes that have occurred at those interchanges since it was written.

The proposed I-94 North-South Corridor project is intended to make necessary safety improvements and to accommodate projected future traffic volumes. Alternatives to be considered include: (1) No build; (2) limited safety improvements; (3) full design and safety improvements; and (4) full design, safety improvements and capacity expansion.

Public involvement will be solicited throughout this process including involvement from minority and low-income populations in the corridor to ensure that the construction of the corridor does not create disproportionately high and adverse environmental and health impacts to these communities. Several public workshops are scheduled in January 2006, and the first of a series of public information meetings in May 2006. WisDOT and FHWA will coordinate with appropriate state and federal contacts during the study. Public notice will be given as to the time and place of all workshops and public information meetings. In addition, a public hearing will be held after the draft EIS has been prepared. To ensure that the full range of issues related to this proposed action are addressed and all significant issues identified, comments and suggestions are invited from all interested parties. Comments and questions concerning the proposed action and the EIS should be directed to the FHWA at the address provided above.

(Catalog of Federal Domestic Assistance Program Number 20.205, Highway Planning and Construction. The regulations implementing Executive Order 12372 regarding intergovernmental consultation on Federal programs and activities apply to this program.)

Authority: 23 U.S.C. 315; 49 CFR 1.48.

Issued on: December 15, 2005.
Tracey McKenney,
Program Operations Engineer, Federal Highway Administration, Madison, Wisconsin.

[FR Doc. 05-24342 Filed 12-12-05; 8:45 am]

BILLING CODE 4910-22-M